DEPARTMENT OF THE INTERIOR

Bureau of Land Management

[LLAK930000.L16100000.LXSINPRA0000.DT0000]

Notice of Availability of Record of Decision for the National Petroleum Reserve-Alaska Final Integrated Activity Plan

AGENCY: Bureau of Land Management, Interior.

ACTION: Notice of Availability.

SUMMARY: The Bureau of Land Management (BLM) announces the availability of the Record of Decision (ROD) for the National Petroleum Reserve in Alaska (NPR-A) Final Integrated Activity Plan (IAP). The Secretary of the Interior, Ken Salazar, signed the ROD on February 21, 2013. The ROD constitutes the final decision of the Department on the plan and is effective immediately.

ADDRESSES: The ROD is available on the BLM-Alaska Web site at www.blm.gov/ak. Hard copies of the ROD are available upon request from Serena Sweet 907-271-4543 and at the BLM Public Room at 222 West 7th Avenue #13, Anchorage, AK 99513-7504. The NPR-A Final Integrated Activity Plan/Environmental Impact Statement (IAP/EIS), which provides the analysis upon which the decision is based, is also available at the above Web site address, the Anchorage BLM Public Room, and by telephoning Serena Sweet.

FOR FURTHER INFORMATION CONTACT: For further information contact Serena Sweet, telephone 907-271-4543 or by email at ssweet@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The NPR-A IAP/EIS planning process began with the publication of the Notice of Intent in the Federal Register on July 28, 2010, which began the formal scoping period. Formal scoping ended October 1, 2010. After the scoping period, the BLM, in consultation with the cooperating agencies and tribes and with additional input from the public, researched information on the resources and uses of the area, developed a range of reasonable future management alternatives, and analyzed the impacts of those alternatives. These analyses underwent review within the BLM and among the cooperating agencies, resulting in the Draft IAP/EIS released on March 30, 2012. The comment period was originally scheduled to end on June 1, 2012, but in response to public requests, the BLM extended the comment period to June 15, 2012. The public and agencies commented on the Draft IAP/EIS. Based on these comments and additional analysis, the BLM developed the preferred alternative and revised the Draft to issue a Final IAP/EIS on December 19, 2012.

The ROD provides opportunities for oil and gas leasing and development as required by the Naval Petroleum Reserves Production Act, as amended, and for application for onshore infrastructure in support of offshore development, while protecting surface values, most notably subsistence resources and access and a wide range of important wildlife and wildlife habitat. This decision reflects the Preferred Alternative B-2 in the NPR-A Final IAP/EIS issued in December 2012, with minor modifications to clarify intent, provide greater assurance of the consistency of the plan with onshore infrastructure to support offshore development, and to establish an NPR-A working group as a means for future ongoing dialogue regarding BLM management of the NPR-A.

Authority: 40 CFR 1506.6.

Ted A. Murphy,
Acting State Director.

[FR Doc. 2013-04406 Filed 2-25-13; 8:45 am]

BILLING CODE 4310-JA-P